FEDERAL COMMUNICATIONS COMMISSION

47 CFR Part 73

[DA 02-858; MM Docket No. 01-13, RM-10038; MM Docket No. 01-20, RM-10049; MM Docket No. 01-80, RM-10089; MM Docket No. 01-81, RM-10090; MM Docket No. 01-102; RM-10100; MM Docket No. 01-103, RM-10102; MM Docket No. 01-114, RM-10128; MM Docket No. 01-136, RM-10155; MM Docket No. 01-201, RM-10216]

Radio Broadcasting Services; Woodbury, GA; Reliance, WY; Eagle Lake, TX; Montana City, MT; Plainville, GA; Rosholt, WI; Morgantown, KY, Boswell, OK and Frederic, MI

AGENCY: Federal Communications Commission.

ACTION: Final rule.

SUMMARY: This document grants nine proposals that allot new channels to Woodbury, Georgia, Reliance, Wyoming, Eagle Lake, Texas, Montana City, Montana, Plainville, Georgia, Rosholt, Wisconsin, Morgantown, Kentucky, Boswell, Oklahoma, and Frederic, Michigan. See Supplementary Information, infra.

DATES: Effective May 28, 2002. The window period for filing applications for these allotments will not be opened at this time. Instead, the issue of opening these allotments for auction will be addressed by the Commission in a subsequent order.

FOR FURTHER INFORMATION CONTACT: Sharon P. McDonald, Mass Media Bureau, (202) 418-2180.

SUPPLEMENTARY INFORMATION: This is a synopsis of the Commission's Report and Order, MM Docket No. 01-13, MM Docket No. 01-20 , MM Docket No. 01-80, MM Docket No. 01-81; MM Docket No. 01-102, MM Docket No. 01-103, MM Docket No. 01-114, MM Docket No. 01-136, and MM Docket No. 01-201 adopted April 3, 2002, and released April 12, 2002. The full text of this Commission decision is available for inspection and copying during normal business hours in the FCC Reference Information Center (Room CY-A257), 445 12th Street, SW., Washington, DC. The complete text of this decision may also be purchased from the Commission's copy contractor, Qualex International, Portals II, 445 12th Street, S.W., Room CY-B402, Washington, DC 20554.

The Commission, at the request of Bernice P. Hedrick, allots Channel 233A at Woodbury, Georgia, as the community's first local aural transmission service. See 66 FR 8560, February 1, 2001. Channel 233A can be allotted at Woodbury in compliance with the Commission's minimum distance separation requirements with a site restriction of 6.4 kilometers (10.2 miles) west to avoid short-spacings to the licensed sites of Station KVIC(FM), Channel 236C3, Victoria, Texas, and Station KIKK-FM, Channel 239C, Houston, Texas. The coordinates for Channel 233A at Woodbury are 32-54-40 North Latitude and 84-28-34 West Longitude.

The Commission, at the request of Reliance Broadcasting, allots Channel 265C3 at Reliance, Wyoming, as the community's first local aural transmission service. See 66 FR 10659, February 16, 2001. Channel 265C3 can be allotted to Reliance in compliance with the Commission's minimum distance separation requirements at city reference coordinates. The coordinates for Channel 265C3 at Reliance are 41-40-09 North Latitude and 109-11-47 West Longitude.

The Commission, at the request of Stargazer Broadcasting, Inc., allots Channel 237C3 at Eagle Lake, Texas, as the community's first local aural transmission service. See 66 FR 20223, April 20, 2001. Channel 237C3 can be allotted at Eagle Lake in compliance with the Commission's minimum distance separation requirements with a site restriction of 16.4 kilometers (10.2 miles) west to avoid short-spacings to the licensed sites of Station KVIC(FM), Channel 236C3, Victoria, Texas, and Station KIKK-FM, Channel 239C, Houston, Texas. The coordinates for Channel 237C3 at Eagle Lake are 29-35-15 North Latitude and 96-30-03 West Longitude.

The Commission, at the request of Montana Magic Investments, Inc., allots Channel 293A at Montana City, Montana, as the community's first local aural transmissions service. See 66 FR 20223, April 20, 2001. Channel 293A can be allotted at Montana City in compliance with the Commission's minimum distance separation requirements with a site restriction of 3.8 kilometers (2.4 miles) north to avoid a short-spacing to the license site of Station KWYS-FM, Channel 293C, Island Park, Idaho. The coordinates for Channel 293A at Montana City are 46-33-43 North Latitude 111-57-39 West Longitude. Since Montana City is located within 320 kilometers (200 miles) of the U.S.-Canadian border, concurrence of the Canadian government was requested but has not been received. If a construction permit is granted prior to the receipt of formal concurrence in the allotment by the Canadian government, the construction permit will include the following condition: “Operation with the facilities specified herein is subject to modification, suspension, or termination without right to hearing, if found by the Commission to be necessary in order to conform to the USA-Canadian FM Broadcast Agreement.”

The Commission, at the request of Plainville Communications, Channel 285A at Plainville, Georgia, as the community's first local aural transmission service. See 66 FR 26826, May 15, 2001. Channel 285A can be allotted at Plainville in compliance with the Commission's minimum distance separation requirements with a site restriction of 6.5 kilometers (4.0 miles) northwest to avoid a short-spacing to the licensed site of Station WFSH-FM, Channel 284C1, Athens, Georgia. The coordinates for Channel 285A at Plainville are 34-25-58 North Latitude and 85-05-48 West Longitude.

The Commission, as the request of Craig Norlin, allots Channel 263A at Rosholt, Wisconsin, as the community's first local aural transmission service. See 66 FR 26826, May 15, 2001. Channel 263A can be allotted to Rosholt in compliance with the Commission's minimum distance separation requirements with a site restriction of 8.6 kilometers (6.3 miles) northwest to avoid a short-spacing to the license site of Station WIZD(FM), Channel 260C3, Rudolph, Wisconsin, and Station WNCY-FM, Channel 262C2, Neenah-Menasha, Wisconsin. The coordinates for Channel. 263A at Rosholt are 44-40-12 North Latitude and 89-23-45 West Longitude.

The Commission, at the request of Green River Radio Company, allots Channel 256A at Morgantown, Kentucky, as the community's first local aural transmission service. See 66 FR 31597, June 12, 2001. Channel 256A can be allotted at Morgantown in compliance with the Commission's minimum distance separation requirements with a site restriction of 11.9 kilometers (7.4 miles) west to avoid short-spacings to the licensed sites of Station WKNK(FM), Channel 256A, Edmonton, Kentucky, and Station WKDQ(FM), Channel 258C, Henderson, Kentucky. The coordinates for Channel 256A at Morgantown are 37-15-34 North Latitude and 86-48-40 West Longitude.

The Commission, at the request of Boswell Broadcasting Company, allots Channel 282C3 at Boswell, Oklahoma, the community's first local aural transmission service. See 66 FR 35768, July 9, 2001. Channel 282C3 can be allotted at Boswell in compliance with the Commission's minimum distance separation requirements at city reference coordinates. The coordinates for Channel 282C3 at Boswell are 34-01-38 North Latitude and 95-52-08 West Longitude.

The Commission, at the request of Jeraldine Anderson, allots Channel 237A at Frederic, Michigan, as the community's first local aural transmission service. See 66 FR 46427, September 5, 2001. Channel 237A can be allotted at Frederic in compliance with the Commission's minimum distance separation requirements with a site restriction of 7.6 kilometers (4.7 miles) east to avoid short-spacings to the licensed sites of Station WCFX(FM), Channel 237A, Clare, Michigan, and Station WJZJ(FM), Channel 238C2, Glen Arbor, Michigan. The coordinates for Channel 237A at Frederic are 44-46-29 North Latitude and 84-39-29 West Longitude. Since Frederic is located within 320 kilometers (200 miles) of the U.S.-Canadian border, concurrence of the Canadian government has been obtained.

List of Subjects in 47 CFR Part 73

Radio broadcasting.

PART 73—RADIO BROADCAST SERVICES

1. The authority citation for Part 73 continues to read as follows:

Authority: 47 U.S.C. 154, 303, 334 and 336.

§ 73.202 [Amended]

2. Section 73.202(b), the Table of FM Allotments under Georgia, is amended by adding Woodbury, Channel 233A and Plainville, Channel 285A.

3. Section 73.202(b), the Table of FM Allotments under Kentucky, is amended by adding Morgantown, Channel 256A.

4. Section 73.202(b), the Table of FM Allotments under Michigan, is amended by adding Frederic, Channel 237A.

5. Section 73.202(b), the Table of FM Allotments under Montana, is amended by adding Montana City, Channel 293A.

6. Section 73.202(b), the Table of FM Allotments under Oklahoma, is amended by adding Boswell, Channel 282C3.

7. Section 73.202(b), the Table of FM Allotments under Texas, is amended by adding Eagle Lake, Channel 237C3.

8. Section 73.202(b), the Table of FM Allotments under Wisconsin, is amended by adding Rosholt, Channel 263A.

9. Section 73.202(b), the Table of FM Allotments under Wyoming, is amended by adding Reliance, Channel 265C3.

Federal Communications Commission.

John A. Karousos,
Assistant Chief, Audio Division, Office of Broadcast License Policy, Media Bureau.

[FR Doc. 02-10698 Filed 4-30-02; 8:45 am]

BILLING CODE 6712-01-P